OFFICE OF PERSONNEL MANAGEMENT

5 CFR Part 532

RIN 3206-AM75

Prevailing Rate Systems; Redefinition of the Minneapolis-St. Paul, MN, and Southwestern Wisconsin Appropriated Fund Federal Wage System Wage Areas

AGENCY: U.S. Office of Personnel Management.

ACTION: Final rule.

SUMMARY: The U.S. Office of Personnel Management is issuing a final rule to redefine the geographic boundaries of the Minneapolis-St. Paul, MN, and Southwestern Wisconsin appropriated fund Federal Wage System (FWS) wage areas. The final rule redefines Wabasha County, MN, from the Southwestern Wisconsin wage area to the Minneapolis-St. Paul wage area. This change is based on a recent consensus recommendation of the Federal Prevailing Rate Advisory Committee to best match Wabasha County to a nearby FWS survey area.

DATES: This regulation is effective on May 21, 2013.

FOR FURTHER INFORMATION CONTACT: Madeline Gonzalez, by telephone at (202) 606-2838, or by email at pay-leave-policy@opm.gov.

SUPPLEMENTARY INFORMATION: On December 21, 2012, the U.S. Office of Personnel Management (OPM) issued a proposed rule (77 FR 75589) to redefine the geographic boundaries of the Minneapolis-St. Paul, MN, and Southwestern Wisconsin appropriated fund Federal Wage System (FWS) wage areas. The final rule redefines Wabasha County, MN, from the Southwestern Wisconsin wage area to the Minneapolis-St. Paul wage area. The Federal Prevailing Rate Advisory Committee (FPRAC), the national labor-management committee responsible for advising OPM on matters concerning the pay of FWS employees, recommended this change by consensus. FPRAC recommended no other changes in the geographic definitions of the Minneapolis-St. Paul and Southwestern Wisconsin wage areas. This change would be effective on the first day of the first applicable pay period beginning on or after 30 days following publication of the final regulations. The proposed rule had a 30-day comment period, during which OPM received no comments.

Regulatory Flexibility Act

I certify that these regulations will not have a significant economic impact on a substantial number of small entities because they will affect only Federal agencies and employees.

List of Subjects in 5 CFR Part 532

Administrative practice and procedure, Freedom of information, Government employees, Reporting and recordkeeping requirements, Wages.

U.S. Office of Personnel Management.
Elaine Kaplan,
Acting Director.

Accordingly, the U.S. Office of Personnel Management amends 5 CFR part 532 as follows:

PART 532—PREVAILING RATE SYSTEMS

1. The authority citation for part 532 continues to read as follows:

Authority: 5 U.S.C. 5343, 5346; § 532.707 also issued under 5 U.S.C. 552.

2. Appendix C to subpart B is amended by revising the wage area listings for the Minneapolis-St. Paul, MN, and Southwestern Wisconsin wage areas to read as follows:

Appendix C to Subpart B of Part 532—Appropriated Fund Wage and Survey Areas

* * * * *
MINNESOTA
* * * * *
Minneapolis-St. Paul
Survey Area
Minnesota:
Anoka
Carver
Chisago
Dakota
Hennepin
Ramsey
Scott
Washington
Wright
Wisconsin:
St. Croix
Area of Application. Survey area plus:
Minnesota:
Benton
Big Stone
Blue Earth
Brown
Chippewa
Cottonwood
Dodge
Douglas
Faribault
Freeborn
Goodhue
Grant
Isanti
Kanabec
Kandiyohi
Lac Qui Parle
Le Sueur
McLeod
Martin
Meeker
Mille Lacs
Morrison
Mower
Nicollet
Olmsted
Pope
Redwood
Renville
Rice
Sherburne
Sibley
Stearns
Steele
Stevens
Swift
Todd
Traverse
Wabasha
Wadena
Waseca
Watonwan
Yellow Medicine
Wisconsin:
Pierce
Polk
* * * * *
WISCONSIN
Southwestern Wisconsin
Survey Area
Wisconsin:
Chippewa
Eau Claire
Monroe
Trempealeau
Area of Application. Survey area plus:
Minnesota:
Fillmore
Houston
Winona
Wisconsin:
Barron
Buffalo
Clark
Crawford
Dunn
Florence
Forest
Jackson
Juneau
Langlade
Lincoln
Marathon
Marinette
Menominee
Oneida
Pepin
Portage
Price
Richland
Rusk
Shawano
Taylor
Vernon
Vilas
Waupaca
Wood
* * * * *

[FR Doc. 2013-12068 Filed 5-20-13; 8:45 am]

BILLING CODE 6325-39-P